DEPARTMENT OF TRANSPORTATION

Federal Highway Administration

Multistate Corridor Operations and Management Program

AGENCY: Federal Highway Administration (FHWA), DOT.

ACTION: Notice; Request for applications.

SUMMARY: This notice invites existing and potential multistate organizations, coalitions, or other arrangements or entities engaged in corridor transportation activities and research to apply for participation in the Multistate Corridor Operations and Management (MCOM) Program authorized by the Safe, Accountable, Flexible, Efficient Transportation Equity Act: A Legacy for Users (SAFETEA-LU) Intelligent Transportation Systems (ITS) Research program. The purpose of the MCOM program is to promote regional cooperation, planning, and shared project implementation for research programs and projects to improve multimodal transportation system management and operations. This notice seeks applications for available fiscal year (FY) 2011 funding ($7 million), which will be provided to cover a maximum of 80 percent of proposed program/project costs. Multiple awards are possible, but not guaranteed.

DATES: Formal applications must be submitted no later than December 20, 2011 to be assured consideration. Applications should be submitted through http://www.grants.gov.

FOR FURTHER INFORMATION CONTACT: For questions about the program discussed herein, contact Mr. Robert Arnold, Director, FHWA Office of Transportation Management, (202) 366-1285, or via e-mail at Robert.Arnold@dot.gov, or Ms. Kate Hartman, Program Manager, RITA Truck and Program Assessment, (202) 366-2742, or via e-mail at Kate.Hartman@dot.gov. For legal questions, please contact Mr. Adam Sleeter, Attorney Advisor, FHWA Office of the Chief Counsel, (202) 366-8839, or via e-mail at Adam.Sleeter@dot.gov. Business hours for the FHWA are from 8 a.m. to 4:30 p.m., e.t., Monday through Friday, except Federal holidays.

SUPPLEMENTARY INFORMATION:

Electronic Access

An electronic copy of this document may be downloaded from the Federal Register's home page at: http://www.archives.gov and the Government Printing Office's database at http://www.access.gpo.gov/nara.

Background

Section 5211 of SAFETEA-LU (Pub. L. 109-59; 119 Stat. 1144) created Section 511 of title 23, United States Code (23 U.S.C. 511) that authorizes the Secretary of Transportation to encourage MCOM programs and projects. The purpose of investments in MCOM research programs and projects is to promote regional cooperation, planning, and shared project implementation for programs and projects to improve multimodal transportation system management and operations.

Since the MCOM program is funded by the DOT Intelligent Transportation Systems (ITS) Research program (Title V, Subtitle C of SAFETEA-LU), eligible activities include research, operational testing, evaluation, technology transfer, and limited pre-deployment support for innovative strategies and technologies intended to improve corridor safety and operational performance, enhance economic competitiveness, improve sustainability by reducing energy use and harmful greenhouse gas emissions, and enhance livability. Examples of the types of multimodal activities that could be supported through the MCOM program include improvements in corridor planning and analysis, performance monitoring and management, low emission zones, eco-lanes for alternative fuel vehicles, efficient and safe movement of freight, data sharing, traveler information, response to major traffic incidents/adverse weather/emergencies, and electronic fee and fare payments. The Department is also particularly interested in programs and projects that support, extend, or complement ongoing ITS program initiatives. More information about the ITS program is available at http://www.its.dot.gov.

How To Apply

Formal proposals should include the following:

1. Description of the corridor—geography, States involved, metropolitan areas encompassed, and other relevant information which the proposer deems important.

2. Transportation assets—describe the transportation assets, modes, and facilities within the corridor that the proposal will impact, including major highways (including truck routes), dedicated truck roadways, international border crossings (if applicable), rail lines, transit facilities, freight intermodal/transfer facilities, freight and passenger maritime facilities, waterways, airports, and existing ITS infrastructure.

3. Performance issues facing the corridor—types of transportation challenges facing the efficient and effective operation and management of transportation facilities and services in the corridor.

4. Membership of the existing or proposed organization, coalition, or other entity—current or proposed list of States and metropolitan areas to be involved including specific organizations such as transportation agencies, State safety enforcement agencies, metropolitan planning organizations, toll authorities, transit operators, port authorities, waterway and port operators, etc., and existing or proposed charter, governance, and/or procedural documentation. Proposers do not necessarily have to be an existing organization or coalition but should show evidence that a cooperative agreement, memorandum of understanding, or other organizational mechanism can be executed in a reasonable timeframe after selection.

5. Vision, goals, and objectives of the applicant for the corridor—The vision of the organization and goals, objectives, and research activities to be pursued in addressing the identified issues and challenges facing the corridor.

6. Support for ITS program initiatives—ability to support or leverage ongoing DOT ITS initiatives. The DOT ITS initiatives are described on-line at http://www.its.dot.gov.

7. Funding request and breakdown—A complete list of activities to be funded by the request, including organizations and key staff involved, estimated costs, an identification of all funding sources that will supplement the requested funds and will be necessary to fully fund the request, and a timeline for completion of the activities to be supported. The maximum amount of funding requested from the MCOM program should not exceed $7 million nor should it exceed 80 percent of the total cost of the activities proposed to be funded by the MCOM program.

8. Party or parties to the contract—A description of the entity that will be entering into the agreement or contract with FHWA, and a description of how that entity will process or manage the program funds.

9. Proposals should not exceed 25 pages in length. Additional information supporting the application, such as maps, technical information, and letters of endorsement may be submitted as addenda to the application and will not count against the application page limit.

To ensure that all proposals receive fair and equal consideration for the limited available funds, the Department requires formal grant applications to be submitted to http://www.grants.gov by close of business December 20, 2011.

Evaluation Criteria

All proposals will be evaluated based on:

1. Overall effectiveness—how well the vision of the organization and the activities proposed address the transportation issues and challenges in the corridor, provide a multistate perspective, and align with DOT Goals.

2. Multimodal focus—inclusion of various transportation modes in providing solutions to the corridor's performance issues.

3. Transferability—applicability of proposed research, practices, procedures, and use of technology to other transportation corridors.

4. Cost effectiveness—benefits to be derived from activities proposed relative to estimated project costs; and ability and commitment to evaluate the effectiveness of activities proposed.

5. Organizational structure and commitments—depth, clarity, and potential effectiveness of the organization's structure; evidence of commitments by key partners to participate.

6. Support for ITS program initiatives—ability to support or leverage ongoing DOT ITS initiatives.

7. Funding leverage—beyond the required matching funds, the commitment and/or ability to use other funding sources to meet the challenges of the corridor.

8. Past Performance Related to ITS deployment—relevant examples of how the States potentially involved have deployed, operated, and maintained ITS solutions that continue to provide safety, efficiency, mobility, and other benefits to corridor stakeholders and the general public.

Post-Submission Process

Applicants may be contacted for additional information or clarification. The application should include a primary point of contact and provide complete contact information for this individual.

The Department may pursue partial funding of applications.

If selected for funding, a formal agreement will be prepared between the Department and the membership of the multistate organization. The agreement will include a refined and more detailed scope of work.

Issued on: October 12, 2011.
Victor M. Mendez,
Administrator.

[FR Doc. 2011-27249 Filed 10-20-11; 8:45 am]

BILLING CODE 4910-22-P